Executive Order 13524 of December 16, 2009

Amending Executive Order 12425 Designating Interpol as a Public International Organization Entitled To Enjoy Certain Privileges, Exemptions, and Immunities

By the authority vested in me as President by the Constitution and the laws of the United States of America, including section 1 of the International Organizations Immunities Act (22 U.S.C. 288), and in order to extend the appropriate privileges, exemptions, and immunities to the International Criminal Police Organization (INTERPOL), it is hereby ordered that Executive Order 12425 of June 16, 1983, as amended, is further amended by deleting from the first sentence the words “except those provided by Section 2(c), Section 3, Section 4, Section 5, and Section 6 of that Act” and the semicolon that immediately precedes them.

THE WHITE HOUSE,

December 16, 2009.

[FR Doc. E9-30413

Filed 12-18-09; 8:45 am]

Billing code 3195-W0-P